FARM CREDIT ADMINISTRATION

Farm Credit Administration Board; Regular Meeting

AGENCY: Farm Credit Administration.

SUMMARY: Notice is hereby given, pursuant to the Government in the Sunshine Act (5 U.S.C. 552b(e)(3)), of the regular meeting of the Farm Credit Administration Board (Board).

Date and Time: The regular meeting of the Board will be held at the offices of the Farm Credit Administration in McLean, Virginia, on April 10, 2008, from 9 a.m. until such time as the Board concludes its business.

FOR FURTHER INFORMATION CONTACT: Roland E. Smith, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

• March 13, 2008

B. New Business—Regulations

• Farmer Mac Risk-Based Capital Stress Test Revisions (Version 3.0)—Final Rule

• Financing for Processing or Marketing Operations—Final Rule

C. Reports

• Auditors' Report on FCSBA FY 2007 Financial Statements

Closed Session *

* Session Closed-Exempt pursuant to 5 U.S.C. 552b(c)(8) and (9).

• OSMO Supervisory and Oversight Activities

Dated: April 1, 2008.
Roland E. Smith,
Secretary, Farm Credit Administration Board.

[FR Doc. 08-1110 Filed 4-3-08; 2:19 pm]

BILLING CODE 6705-01-P